NATIONAL FOUNDATION ON THE ARTS AND THE HUMANITIES

National Endowment for the Arts

National Council on the Arts 149th Meeting

Pursuant to section 10(a)(2) of the Federal Advisory Committee Act (Pub. L. 92-463), as amended, notice is hereby given that a meeting of the National Council on the Arts will be held on July 10, 2003 from 2 p.m. to 5:30 p.m. in Room 527 and on July 11, 2003 from 9 a.m. to 12:15 p.m. in Room M-09 at the Nancy Hanks Center, 1100 Pennsylvania Avenue, NW., Washington, DC 20506.

The Council will meet in closed session on July 10th, from 2 to 5:30 p.m. for discussion of National Medal of Arts nominations. In accordance with the determination of the Chairman of April 30, 2003, this session will be closed to the public pursuant to subsection (c)(4),(6) and (9)(B) of section 552b of Title 5, United States Code. The remainder of the meeting, from 9 a.m. to 12:15 p.m. on July 11th, will be open to the public on a space available basis. Following opening remarks and announcements, there will be a presentation on Shakespeare in American Communities. This will be followed by Congressional, White House, and budget updates. A presentation on the American Jazz Masters program will feature NEA staff members A. B. Spellman and Wayne Brown (on the history of the program), International Association of Jazz Educators (IAJE) Executive Director Bill McFarlin (excerpts from the IAJE website), musician Jimmy Heath (Jazz Masters Fellowship recipient) and Jeb Patton of the Heath Brothers (jazz piano performance) and will include a discussion of the Chairman's new initiative and FY 05 guidelines. After a break, there will be a presentation on The Arts in Healthcare Symposium by Naj Wikoff (Director, Healing & the Arts Project, Dartmouth College) and Paula Terry (Director, NEA Office of AccessAbility). Other topics will include application review for American Jazz Masters Fellowships, Literature Fellowships/Translation, Resources for Change: Technology, and Leadership Initiatives and general discussion.

If, in the course of the open session discussion, it becomes necessary for the Council to discuss non-public commercial or financial information of intrinsic value, the Council will go into closed session pursuant to subsection (c)(4) of the Government in the Sunshine Act, 5 U.S.C. 552b. Additionally, discussion concerning purely personal information about individuals, submitted with grant applications, such as personal biographical and salary data or medical information, may be conducted by the Council in closed session in accordance with subsection (c)(6) of 5 U.S.C. 552b.

Any interested persons may attend, as observers, Council discussions and reviews that are open to the public. If you need special accommodations due to a disability, please contact the Office of AccessAbility, National Endowment for the Arts, 1100 Pennsylvania Avenue, NW., Washington, DC 20506, (202) 682-5532, TTY-TDD (202) 682-5429, at least seven (7) days prior to the meeting.

Further information with reference to this meeting can be obtained from the Office of Communications, National Endowment for the Arts, Washington, DC 20506, at (202) 682-5570.

Dated: June 18, 2003.
Kathy Plowitz-Worden,
Panel Coordinator, Office of Guidelines and Panel Operations.

[FR Doc. 03-15924 Filed 6-23-03; 8:45 am]

BILLING CODE 7537-01-P